SMALL BUSINESS ADMINISTRATION

[License No. 01/01-0426]

Long River Ventures III, L.P.; Surrender of License of Small Business Investment Company

Pursuant to the authority granted to the United States Small Business Administration under the Small Business Investment Act of 1958, as amended, under section 309 of the Act and section 107.1900 of the Small Business Administration Rules and Regulations (13 CFR 107.1900) to function as a small business investment company under the Small Business Investment Company License No. 01/01-0426 issued to Long River Ventures III, L.P., said license is hereby declared null and void.

Thomas Morris,
Director, Patient Capital Investments, Office of Investment and Innovation, United States Small Business Administration.

[FR Doc. 2024-25344 Filed 10-30-24; 8:45 am]

BILLING CODE P